DEPARTMENT OF HOUSING AND URBAN DEVELOPMENT

[Docket No. FR-5853-N-01]

Notice of Intent To Conduct a Violence Against Women Act (VAWA) and Housing Opportunities for Persons With AIDS (HOPWA) Project Demonstration

AGENCY: Office of the Assistant Secretary for Community Planning and Development, HUD.

ACTION: Notice of Intent to Conduct a VAWA/HOPWA Project Demonstration.

SUMMARY: Through this notice, HUD solicits comment on a proposed demonstration through which HUD will award grant funds to successful applicants to provide transitional and other temporary housing assistance and supportive services to low-income persons living with Human Immunodeficiency Virus/Acquired Immunodeficiency Syndrome (HIV/AIDS) who are victims of domestic violence, dating violence, sexual assault, or stalking. Grantees of the VAWA/HOPWA Project Demonstration will be required to partner with local domestic violence and sexual assault service providers for client outreach and engagement and for comprehensive supportive services to ensure client success in the program. The VAWA/HOPWA Project Demonstration will explore the effectiveness of coordinating the expertise and resources of HIV/AIDS housing providers with domestic violence and sexual assault service providers in addressing the needs of this vulnerable population.

DATES: Comments Due Date: April 13, 2015.

ADDRESSES: Interested persons are invited to submit comments responsive to this notice to the Office of General Counsel, Regulations Division, Department of Housing and Urban Development, 451 7th Street SW., Room 10276, Washington, DC 20410-0001. All submissions should refer to the above docket number and title. Submission of public comments may be carried out by hard copy or electronic submission.

Submission of Hard Copy Comments. Comments may be submitted by mail or hand delivery. Each commenter submitting hard copy comments, by mail or hand delivery, should submit comments to the address above, addressed to the attention of the Regulations Division. Due to security measures at all federal agencies, submission of comments by mail often results in delayed delivery. To ensure timely receipt of comments, HUD recommends that any comments submitted by mail be submitted at least 2 weeks in advance of the public comment deadline. All hard copy comments received by mail or hand delivery are a part of the public record and will be posted to http://www.regulations.gov without change.

Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make comments immediately available to the public. Comments submitted electronically through the http://www.regulations.gov Web site can be viewed by other commenters and interested members of the public. Commenters should follow instructions provided on that site to submit comments electronically.

No Facsimile Comments. Facsimile (FAX) comments are not acceptable.

Public Inspection of Comments. All comments submitted to HUD regarding this notice will be available, without charge, for public inspection and copying between 8 a.m. and 5 p.m., Eastern Time, weekdays at the above address. Due to security measures at the HUD Headquarters building, an advance appointment to review the public comments must be scheduled by calling the Regulations Division at 202-708-3055 (this is not a toll-free number). Individuals with speech or hearing impairments may access this number through TTY by calling the Federal Relay Service at 800-877-8339 (this is a toll-free number). Copies of all comments submitted are available for inspection and downloading at http://www.regulations.gov.

FOR FURTHER INFORMATION CONTACT: Amy Palilonis, Office of HIV/AIDS Housing, Office of Community Planning and Development, U.S. Department of Housing and Urban Development, 451 Seventh Street SW., Room 7212, Washington, DC 20410-7000, telephone number 202-402-5916 (this is not a toll-free number). Persons with hearing or speech impairments may access this number through TTY by calling the Federal Relay Service at 800-877-8339 (this is a toll-free number).

SUPPLEMENTARY INFORMATION:

I. Background

On March 30, 2012, President Obama issued a Memorandum that established a Federal Interagency Working Group (Working Group) to explore the intersection of HIV/AIDS, violence against women and girls, and gender-related health disparities. The Working Group prioritized addressing intimate partner violence (IPV) because of its high overall prevalence among women and girls, especially among women living with HIV. Studies indicate that over half (55 percent) of U.S. women living with HIV have experienced IPV, considerably higher than the national prevalence among women overall (36 percent). Among women living with HIV/AIDS, trauma, abuse and violence are associated with less use of antiretroviral medication, decreased medication adherence, and increased risk of death.

While multiple factors contribute to violence and HIV risk among women and girls, the Working Group highlighted the lack of stable, affordable housing as particularly crucial. Women living with HIV/AIDS and experiencing violence are often dependent on an abusive partner for resources, including housing. These barriers often prevent women from attaining the economic independence needed to escape their abusers. Studies show that women who experience IPV are four times more likely to report housing instability than women without histories of abuse by an intimate partner.¹

¹ “Addressing the Intersection of HIV/AIDS, Violence against Women and Girls and Gender-Related Health Disparities: Interagency Federal Working Group Report” (Sept. 6, 2013), available at: http://www.whitehouse.gov/sites/default/files/docs/vaw-hiv_working_group_report_final_-_9-6—2013.pdf.

The Working Group recommended enhancing Federal efforts to address HIV and IPV among homeless and marginally housed women and girls. In response to this recommendation, the U.S. Department of Justice's Office on Violence Against Women (OVW) and U.S. Department of Housing and Urban Development's Office of HIV/AIDS Housing (OHH) collaborated to identify available resources to competitively award grant funding aimed at addressing the housing and supportive service needs of low-income persons living with HIV/AIDS who are victims of domestic violence, dating violence, sexual assault, or stalking. Although the Working Group focused on women and girls, the VAWA/HOPWA Project Demonstration will cover all victims regardless of sex, gender identity, sexual orientation, familial status, marital status, race, color, religion, national origin, disability, or age.

OVW identified $1,490,000 in Fiscal Year (FY) 2014 funding from the Transitional Housing Assistance Grants for Victims of Domestic Violence, Dating Violence, Stalking or Sexual Assault Program (hereinafter “Transitional Housing Assistance Program”). To support this demonstration, OVW and OHH executed an Interagency Agreement assigning HUD to administer the Transitional Housing Assistance Program grant funds. OHH will also identify HOPWA competitive funding, to the extent available, that can be used to fund Special Projects of National Significance pursuant to 42 U.S.C. 12903(c)(3).

II. Proposed Demonstration

Under the VAWA/HOPWA Project Demonstration, HUD will use the Transitional Housing Assistance Program and HOPWA competitive funds to award grants to eligible applicants. Eligible applicants are those applicants that are eligible to apply for grants for Special Projects of National Significance under the HOPWA program (that is, States, units of general local government, and nonprofit organizations). Grantees will be required to use the grant funds received under the VAWA/HOPWA Project Demonstration to provide transitional housing and/or temporary housing assistance (excluding emergency shelters), and supportive services to low-income persons living with HIV/AIDS who are also victims of domestic violence, dating violence, sexual assault, or stalking, including any minors and dependents living with such persons.

Each successful applicant under this demonstration program will receive two separate grants from HUD: (1) A HOPWA grant, and (2) a Transitional Housing Assistance Program grant. Grantees must ensure that the grant funds are used to fund transitional housing or other temporary housing assistance, and supportive services for all program clients. The HOPWA grant amounts will be used to fund transitional and other temporary housing assistance for program clients, coordination and planning activities, and grant management and administration. The Transitional Housing Assistance Program grant amounts will be used to provide supportive services to clients.

HUD will publish a Notice of Funding Availability (NOFA) in FY 2015 that will explain requirements for the VAWA/HOPWA Project Demonstration, detail project selection criteria and solicit applications. HUD expects to make awards to 7 to 9 applicants depending on the amount of total funding that will be available for the demonstration. Funds will be awarded on a one-time-only, non-renewable basis for a 3-year operating period. Generally, a program client may be assisted under this demonstration for not more than 24 months. This period may be extended up to an additional six months with respect to a client that has made a good-faith effort to acquire permanent housing and has been unable to do so. Grantees must transition assisted households to permanent housing, or other housing assistance, by the end of the operating period. Grantees will be required to partner with local domestic violence and sexual assault service providers for client outreach and engagement and for comprehensive supportive services to ensure client success in the program.

Grantees must ensure that HOPWA funds will be used to carry out eligible activities under the HOPWA program. All HOPWA funds must be spent in accordance with the authorizing HOPWA statute (42 U.S.C. 12901 et seq.), program regulations at 24 CFR part 574, and all NOFA requirements. Grantees must also ensure that Transitional Housing Assistance Program funds will be spent in accordance with the authorizing statute of the Transitional Housing Assistance Program (42 U.S.C. 13975) and all NOFA requirements. Projects must comply with all applicable federal, state, and local fair housing and civil rights laws, including, but not limited to, the Fair Housing Act, Title VI of the Civil Rights Act, Section 504 of the Rehabilitation Act, and the Americans with Disabilities Act.

III. Evaluating the Demonstration

OHH and OVW intend to build on the outcomes of the VAWA/HOPWA Project Demonstration, and potentially use it as a model for future interagency collaboration. Grantees will be expected to participate in any technical assistance efforts designed to identify and share best practices from the demonstration with the broader HIV/AIDS housing and domestic violence and sexual assault service provider networks. In addition, grantees will be required to measure and report on outcomes related to housing stability and health outcomes for VAWA/HOPWA Project Demonstration clients.

Grantees will also be required to comply with all reporting requirements under both HOPWA and the Transitional Housing Assistance Program. This will include the submission of a HOPWA Annual Performance Report (APR) and an annual report that will describe the number of minors, adults, and dependents assisted with a Transitional Housing Assistance Grant and the number of months of assistance that each received. OHH and OVW will use this information to evaluate the program and make policy recommendations in the future.

IV. Solicitation of Public Comment

In accordance with section 470 of the Housing and Urban-Rural Recovery Act of 1983 (42 U.S.C. 3542), HUD is seeking comment on the demonstration for a period of 30 days. Section 470 provides that HUD may not begin a demonstration program not explicitly authorized by statute until a description of the demonstration program is published in the Federal Register and a 60-day period expires following the date of publication, during which time HUD solicits public comment and considers the comments submitted. A public comment period of 30 days is being provided so that HUD may receive public comments and have the opportunity to consider those comments during the 60-day period. After the close of the public comment period, and following full consideration of comments submitted, HUD will publish the NOFA that will detail project selection criteria and solicit applications for funding under the VAWA/HOPWA Project Demonstration.

Dated: March 6, 2015.
Clifford Taffet,
Acting Assistant Secretary for Community Planning and Development.

[FR Doc. 2015-05764 Filed 3-12-15; 8:45 am]

BILLING CODE 4210-67-P